DEPARTMENT OF AGRICULTURE

Forest Service

Information Collection; National Survey on Recreation and the Environment (NSRE)

AGENCY: Forest Service, USDA.

ACTION: Notice; request for comments.

SUMMARY: In accordance with the Paperwork Reduction Act of 1995, the Forest Service is seeking comments from all interested individuals and organizations on the extension of a currently approved information collection, National Survey on Recreation and the Environment.

DATES: Comments must be received in writing on or before October 18, 2010 to be assured of consideration. Comments received after that date will be considered to the extent practicable.

ADDRESSES: Comments concerning this notice should be addressed to Ken Cordell, USDA Forest Service, 320 Green Street, Athens, GA 30602-2044. Comments also may be submitted by e-mail to: kcordell@fs.fed.us.

The public may inspect comments received at USDA Forest Service, Research Work Unit SRS-4953, 320 Green Street, Athens, GA, Room 233, during normal business hours. Visitors are encouraged to call ahead to 706-559-4262 to facilitate entry to the building.

FOR FURTHER INFORMATION CONTACT: H. Ken Cordell, Research Work Unit SRS-4953, 706-559-4263. Individuals who use telecommunication devices for the deaf (TDD) may call the Federal Relay Service (FRS) at 1-800-877-8339, between 8 a.m. and 8 p.m., Eastern Standard Time, Monday through Friday.

SUPPLEMENTARY INFORMATION:

Title: National Survey on Recreation and the Environment.

OMB Number: 0596-0127.

Expiration Date of Approval: 1/31/11.

Type of Request: Extension with Revisions.

Abstract: Federal land-managing agencies are responsible for the management of more than 650 million acres of public lands; this includes management for recreation opportunities. To manage well and wisely, knowledge of recreation demands, opinions, preferences, and attitudes regarding the management of these lands is imperative and necessary to the development of effective policy, planning, and on-the-ground management. For all Federal agencies, input from and knowledge about the public is mandatory.

For the Forest Service (U.S. Department of Agriculture) and other management agencies, the collection and analysis of public demand data are vital to designing effective policies and programs for the management and use of water, forest, range, and wildlife resources. Authorizing legislation for this collection is the Forest and Rangeland Renewable Resources Planning Act (RPA) (Pub. L. 93-378-88 Stat. 475), which directs the Secretary of Agriculture to assess the status of the Nation's forest and range lands periodically and to recommend a Forest Service program for their sustained management and use. Among the program areas included in the Forest Service assessment are outdoor recreation and wilderness.

The Forest Service is the agency responsible for the survey. This is the tenth in a series of national recreation surveys conducted since 1960. The survey:

(1) Measures the public demand for the Nation's land, water, and other natural resources for outdoor recreation;

(2) Identifies public perceptions of accessibility and suitability of recreational sites;

(3) Seeks public feedback regarding the management of public recreation sites and natural resources;

(4) Asks for suggestions on how public agencies can improve management of public recreation areas and natural resources;

(5) Seeks information on public attitudes about the environment and about the use and management of natural resources ;

(6) Identifies shifts in recreational demands that might influence the delivery of recreational services; and

(7) Obtains information concerning the amount of time and type of activities that children spend outdoors (i.e., information obtained from parent or guardian).

The survey consists of a telephone survey of 30,000 individuals, age 16 or older, residing in the United States and will be conducted using computer assisted telephone interviewing (CATI) technology. The Human Dimensions Research Laboratory at the University of Tennessee in Knoxville, TN will likely conduct the telephone interviews and data collection. A team of research scientists representing the main Federal agencies involved in the survey will analyze the data. Both English and Spanish versions of the questionnaires will used.

Estimate of Annual Burden: 10 minutes per respondent (0.167 hr).

Type of Respondents: Individuals.

Estimated Annual Number of Respondents: 10,000.

Estimated Annual Number of Responses per Respondent: 1.

Estimated Total Annual Burden on Respondents: 1,670 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: August 10, 2010.
Carlos Rodriguez-Franco,
Acting Deputy Chief, Research & Development.

[FR Doc. 2010-20241 Filed 8-16-10; 8:45 am]

BILLING CODE 3410-11-P